OVERSEAS PRIVATE INVESTMENT CORPORATION

Sunshine Act Meeting; Cancellation

OPIC March 21, 2012 Public Hearing

OPIC's Sunshine Act notice of its Public Hearing in Conjunction with each Board meeting was published in the Federal Register (77 FR 13158) on March 5, 2012. No requests were received to provide testimony or submit written statements for the record; therefore, OPIC's public hearing scheduled for 2 p.m., March 21, 2012 in conjunction with OPIC's March 29, 2012 Board of Directors meeting has been cancelled.

CONTACT PERSON FOR INFORMATION: Information on the hearing cancellation may be obtained from Connie M. Downs at (202) 336-8438, or via email at Connie.Downs@opic.gov.

Dated: March 19, 2011.
Connie M. Downs,
OPIC Corporate Secretary.

[FR Doc. 2012-6889 Filed 3-19-12; 11:15 am]

BILLING CODE 3210-01-P